DEPARTMENT OF COMMERCE

National Oceanic and Atmospheric Administration

RIN 0648-XH014

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Joint Advisory Panel and Plan Develop Team to consider actions affecting New England fisheries in the exclusive economic zone (EEZ). Recommendations from this group will be brought to the full Council for formal consideration and action, if appropriate.

DATES: This meeting will be held on Tuesday, May 21, 2019 at 9 a.m.

ADDRESSES: The meeting will be held at the Hilton Providence, 21 Atwells Avenue, Providence, RI 02903; phone: (401) 831-3900.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scallop Advisory Panel (AP) and Plan Development Team (PDT) will receive a status update and summary of preliminary findings from recipients of recent Scallop Research Set-Aside (RSA) awards. This meeting is not a formal review of the methods or results of these projects. Instead, it is an overview to better inform the PDT and AP of current research status and help identify future research priority recommendations. 2020/21 Scallop RSA Research Priorities: Group discussion on potential priorities. Also on the agenda is a discussion on the Council's RSA Program Review: Discuss findings and develop input to the Council. They also plan to discuss slow growing scallops in the Nantucket Lightship South and consider recent research and management approaches. Other business may be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: April 30, 2019.
Rey Israel Marquez,
Acting Deputy Director, Office of Sustainable Fisheries, National Marine Fisheries Service.

[FR Doc. 2019-09076 Filed 5-2-19; 8:45 am]

BILLING CODE 3510-22-P